DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a revision of a currently approved information collection requirement. In accordance with the Paperwork Reduction Act of 1995 (44 U.S.C. 3506(c)(2)(A)), this notice seeks comments concerning the use of FEMA Forms 81-92 and 81-92A, Amendments to National Flood Insurance Program Maps Application Form for Single Residential Structure or Lot (English and Spanish versions).

SUPPLEMENTARY INFORMATION: The National Flood Insurance Program (NFIP) regulations, 44 CFR Parts 65 and 70, outline the data that must be submitted by an owner or lessee of the property (requester) and certified by a Licensed Land Surveyor or Registered Professional Engineer who believes the property has been incorrectly included in a Special Flood Hazard Area (SFHA). In order to remove an area from a SFHA, the requester must submit scientific or technical data demonstrating that the area is “reasonably safe from flooding” and not in the SFHA. SFHAs have been mapped in over 19,000 communities nationwide.

Collection of Information

Title: Instructions and Application Form for Single Lot or Structure Amendments to National Flood Insurance Program Maps.

Type of Information Collection: Revision of a currently approved collection.

OMB Number: 1660-0037.

Form Numbers: FEMA Form 81-92, Amendments to National Flood Insurance Program Maps Application Form for Single Residential Structure or Lot, (English version) and FEMA Form 81-92A (Spanish version).

Abstract: Requesters complete and Licensed Land Surveyors or Professional Engineers certify FEMA Form 81-92 or 81-92A to request that FEMA remove a single structure or a legally recorded parcel of land or portions thereof from a designated SFHA via a Letter of Map Amendment (LOMA). A SFHA is an area that would be inundated by a flood event that has a one-percent-annual-chance of being equaled or exceeded in any given year (base flood). FEMA uses the information provided in FEMA Form 81-92 or 81-92A to make a LOMA determination. A LOMA is a letter from FEMA stating that an existing structure or parcel of land that has not been elevated by fill would not be inundated by the base flood. Fill is defined as material placed to raise the ground to or above the Base Flood Elevation (BFE).

Affected Public: Individuals or households (property owners or lessees); Business or other for-profit (Licensed Land Surveyors or Professional Engineers).

Number of Respondents: 26,400.

Estimated Total Annual Burden Hours: 31,680.

FEMA forms | Number of respondents (A) | Frequency of response (B) | Hours per response (C) | Annual burden hours (A × B × C) | Annualized cost all respondents
81-92 (English):
Owners/Lessees | 11,550 | Annual | 1.0 | 11,550 | $157,658
Surveyors/Engineers | 11,550 |  | 1.4 | 16,170 | 442,735
81-92A (Spanish):
Owners/Lessees | 1,650 | Annual | 1.0 | 1,650 | 22,523
Surveyors/Engineers | 1,650 |  | 1.4 | 2,310 | 63,248
Total | 26,400 | Annual | 2.4 | 31,680 | 686,164

Estimated Cost. The total estimated annual cost is $686,164.00. This estimate is based on the average annual cost per respondent as follows: owners/lessees $13.65 and surveyors/engineers is $38.33.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to the Section Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Cecelia Lynch, Program Specialist, Mitigation Division at 202-646-7045 for additional information. You may contact the Records Management Section for copies of the proposed information collection at facsimile number (202) 646-3347 or e-mail address: FEMA-Information-Collections@dhs.gov.

Dated: May 23, 2005.
George S. Trotter,
Acting Branch Chief, Information Resources Management Branch, Information Technology Services Division.

[FR Doc. 05-10587 Filed 5-26-05; 8:45 am]

BILLING CODE 9110-12-P